ENVIRONMENTAL PROTECTION AGENCY

[FRL-10005-70-OECA]

Applicability Determination Index Data System Posting: EPA Formal Responses to Inquiries Concerning Compliance With Clean Air Act Stationary Source Program

AGENCY: Environmental Protection Agency (EPA).

ACTION: Notice of availability.

SUMMARY: This document announces applicability determinations, alternative monitoring decisions, and regulatory interpretations that EPA has made with regard to the New Source Performance Standards (NSPS); the National Emission Standards for Hazardous Air Pollutants (NESHAP); the Emission Guidelines and Federal Plan Requirements for existing sources; and/or the Stratospheric Ozone Protection Program.

FOR FURTHER INFORMATION CONTACT: An electronic copy of each complete document posted on the Applicability Determination Index (ADI) data system is available on the internet through the Resources and Guidance Documents for Compliance Assistance page of the Clean Air Act Compliance Monitoring website under “Air” at: https://www2.epa.gov/compliance/resources-and-guidance-documents-compliance-assistance. The letters and memoranda on the ADI may be located by author, date, office of issuance, subpart, citation, control number, or by string word searches. For questions about the ADI or this document, contact Maria Malave, Monitoring, Assistance and Media Programs Division by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in 40 CFR part 60 also apply to Federal and EPA-approved state plans for existing sources in 40 CFR part 62. See 40 CFR 62.02(b)(2). The EPA's written responses to source or facility-specific inquiries on provisions in 40 CFR parts 60, 61 and 62 are commonly referred to as applicability determinations. Although the NESHAP 40 CFR part 63 regulations [which include Maximum Achievable Control Technology (MACT) standards and/or Generally Available Control Technology (GACT) standards] contain no specific regulatory provision providing that sources may request applicability determinations, the EPA also responds to written inquiries regarding applicability for the 40 CFR part 63 regulations. In addition, the General Provisions in 40 CFR parts 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system accessed via the internet, with over three thousand EPA letters and memoranda pertaining to the applicability, monitoring, recordkeeping, and reporting requirements of the NSPS, NESHAP, emission guidelines and Federal Plans for existing sources, and stratospheric ozone regulations. Users can search for letters and memoranda by author, date, office of issuance, subpart, citation, control number, or by string word searches.

Today's document comprises a summary of 78 such documents added to the ADI on February 7, 2020. This document lists the subject and header of each letter and memorandum, as well as a brief abstract of the content. Complete copies of these documents may be obtained from the ADI on the internet through the Resources and Guidance Documents for Compliance Assistance page of the Clean Air Act Compliance Monitoring website under “Air” at: https://www2.epa.gov/compliance/resources-and-guidance-documents-compliance-assistance.

Summary of Headers and Abstracts

The following table identifies the database control number for each document posted on February 7, 2020 to the ADI data system; the applicable category; the section(s) and/or subpart(s) of 40 CFR parts 60, 61, 62, 63 and 82 (as applicable) addressed in the document; and the title of the document, which provides a brief description of the subject matter.

Also included in this document, is an abstract of each document identified with its control number. These abstracts are being provided to the public as possible items of interest and are not intended as substitutes for the contents of the original documents. This document does not change the status of any document with respect to whether it is “of nationwide scope or effect” for purposes of CAA section 307(b)(1). For example, this document does not convert an applicability determination for a particular source into a nationwide rule. Neither does it purport to make a previously non-binding document binding.

ADI Determinations Uploaded on February 7, 2020
Control No. | Categories | Subparts | Title
1600003 | NSPS | IIII | Diesel Engine Certification and Applicability of Testing Provisions for Proposed Diesel Engines.
1800004 | NSPS | J, Ja | Alternative Monitoring Plan for Hydrogen Sulfide Monitoring of Tank Degassing Operations at Refineries.
1800010 | NESHAP, NSPS | J, Ja, UUU | Alternative Monitoring Plan Modifications for Two Wet Gas Scrubbers at a Refinery.
1800011 | NESHAP, NSPS | J, Ja, UUU | Alternative Monitoring Plan Modifications for Two Wet Gas Scrubbers at a Refinery.
1800012 | NSPS | EEEE | Performance Test Waiver for Opacity at a Portable Air Curtain Incinerator.
1800014 | NSPS | WWW | Alternative Compliance Timeline for Landfill Gas Extraction Well.
1800015 | NSPS | OOO | Applicability Determination for Crushers and Downstream Equipment at Mineral Processing Plants.
1800016 | NSPS | DDDD, FFFF | Applicability Determination of the Emission Guidelines and Compliance Times for Commercial and Industrial Solid Waste Incineration Units.
1800017 | NSPS | J, Ja | Alternative Monitoring Plan for Portable Flares and Fuel Gas Combustion Devices for Degassing Operations at a Refinery.
1800018 | NSPS | LLLL | Alternative Monitoring Request for a Nitrogen Oxides Emissions Control Device at a Sewage Sludge Incinerator.
1800019 | NSPS | A, Ja | Alternative Monitoring Plan for Hydrogen Sulfide from a Flare at a Refinery.
1800020 | NSPS | A, Ja | Alternative Monitoring Plan for Hydrogen Sulfide from a Flare at a Refinery.
1800021 | NESHAP, NSPS | J, UUU | Alternative Monitoring Plan for a Wet Gas Scrubber at a Refinery.
1800022 | NESHAP, NSPS | J, UUU | Alternative Monitoring Plan for a Wet Gas Scrubber at a Refinery.
1800023 | NSPS | Ja | Monitoring Exemption Request for Hydrogen Sulfide Monitoring of Low-Sulfur Fuel Gas Streams at a Refinery.
1800024 | NSPS | J | Monitoring Exemption Request for Monitoring of Low Sulfur Vent Gas Stream at a Refinery.
1800025 | NESHAP, NSPS | HH, OOOO | Applicability Determination for Flow-Through Transfer Sumps at Natural Gas Booster Station.
1800026 | NSPS | KKKK | Regulatory Interpretation of Monitoring Requirements for a Combustion Turbine Firing Emergency Fuel.
1800027 | NSPS | D, Db | Alternative Sulfur Dioxide Emissions Limitations for Cogeneration Boilers at a Wet Milling Facility.
1800028 | Federal Plan, MACT, NSPS | DDDD, III, G | Operating Parameter Limits and Oxygen Monitoring Waiver for Three Energy Recovery Units.
1800029 | NESHAP, NSPS | A, JJJJ, ZZZZ | Applicability Determination for Three Stationary Spark Ignition Engines at a Landfill.
1800030 | NSPS | A, UUU | Alternative Monitoring Request for Continuous Opacity Monitoring Requirements at a Mineral Processing Facility.
1800031 | NESHAP, NSPS | Kb, WW | Alternative Monitoring Plan for Internal Floating Roof Storage Tanks.
1800032 | NSPS | UUU | Applicability Determination for Autoclaves.
1800033 | NSPS | Ja | Alternative Monitoring Plan for Coker Flare at a Refinery.
1800034 | NSPS | Ja | Alternative Monitoring Plan for a Refinery Flare.
1800035 | NSPS | KKKK | Waiver Request of the Frequency of NOX Emission Rate Testing for Emergency Fuels on Combustion Turbine.
1800036 | NESHAP, NSPS | JJJJ, ZZZZ | Applicability Determination for a Non-Emergency Spark Ignition Internal Combustion Engine Burning Natural Gas and Landfill/Digester Gas.
1800037 | NSPS | GG | Regulatory Interpretation for Nitrogen Oxide Limit for Stationary Gas Turbine.
1800038 | MACT, NSPS | IIII, JJJJ, ZZZZ | Applicability Determination for Three Internal Combustion Engines at a Compressor Station.
1800039 | NSPS | Ja | Monitoring Exemption Request for Low-Sulfur Fuel Gas Streams at a Refinery.
1800040 | NSPS | Ja | Alternative Monitoring Plan for Hydrogen Sulfide in Low-Sulfur Fuel Gas Stream at a Petroleum Refinery.
1800041 | NSPS | A, Ec | Alternative Monitoring Plan for a Hospital/Medical/Infectious Waste Incinerator.
1800042 | NESHAP, NSPS | J, UUU | Alternative Monitoring Request for Wet Gas Scrubber on a Fluidized Catalytic Cracking Unit at a Petroleum Refinery.
1800043 | NSPS | J | Alternative Monitoring Request for Sulfur Dioxide Using Continuous Emissions Monitoring System and Flue Gas Calculation at a Refinery.
1800044 | NSPS | Ec | Alternative Monitoring Operating Parameter Limits for Two Hospital/Medical/Infectious Waste Incinerators.
1800045 | NSPS | A, Ja | Alternative Monitoring Plan for Mass Spectrometer Analyzer on Flare System at a Refinery.
1800046 | NSPS | A, Ja | Alternative Monitoring Plan for Mass Spectrometer Analyzer on Flare at a Refinery.
1800047 | NSPS | Db | Boiler De-rate Request at a Central Heating Plant.
1900001 | NSPS | Ja | Alternative Monitoring Request for Hydrogen Sulfide in Flare at a Refinery.
1900002 | NSPS | Ja | Alternative Monitoring Request for Hydrogen Sulfide in Flares at a Petroleum Refinery.
1900003 | NSPS | Ja | Alternative Monitoring Plan for Span Gas Concentration for Total Reduced Sulfur Continuous Emissions Monitoring System at a Petroleum Refinery.
1900004 | NESHAP, NSPS | J, UUU | Alternative Monitoring Plan for Wet Gas Scrubber on a Fluidized Catalytic Cracking Unit at a Refinery.
1900005 | NESHAP, NSPS | J, Ja, UUU | Alternative Monitoring Request for Wet Gas Scrubber on a Fluidized Catalytic Cracking Unit at a Refinery.
1900006 | NESHAP, NSPS | J, UUU | Alternative Monitoring Plan for Wet Gas Scrubber on a Fluidized Catalytic Cracking Unit at a Refinery.
1900007 | NSPS | Ja | Alternative Monitoring Request for Hydrogen Sulfide and Sulfur at Four Refinery Flares.
1900008 | NSPS | J | Monitoring Exemption Request for Hydrogen Sulfide in Low-Sulfur Fuel Gas Stream at a Refinery.
1900009 | NSPS | JJJJ | Performance Test Waiver for Stationary Spark Ignition Internal Combustion Engines at a Landfill.
1900010 | NSPS | J | Monitoring Exemption Request for Hydrogen Sulfide in Low-Sulfur Fuel Gas Stream at a Refinery.
1900011 | NSPS | Ja | Monitoring Exemption for Hydrogen Sulfide on Low-Sulfur Fuel Gas Stream at a Refinery.
1900012 | NSPS | Ec | Alternative Monitoring Operating Parameter Limits and Performance Testing Plan at a Hospital/Medical/Infectious Waste Incinerator.
1900013 | NSPS | BB | Economic Feasibility Exemption Determination for Brown Stock Washers at Pulp Mill.
1900014 | NESHAP, NSPS | DDDD, EEE | Alternative Monitoring Request for Hydrogen Chloride from Solid Waste Incineration Units.
1900015 | NSPS | Kb | Alternative Monitoring Request for Floating Roof on Ethanol Storage Tank.
1900016 | NSPS | D | Alternative Monitoring Request for Nitrogen Oxides in Sulfite Recovery Boiler at a Pulp Mill.
1900017 | NSPS | BBa | Alternative Monitoring Request for Total Reduced Sulfur in Brownstock Washer System at a Pulp Mill.
1900018 | NSPS | BBa | Monitoring Waiver Request for Brownstock Washer System at a Pulp Mill.
1900019 | NESHAP, NSPS | DDDD, EEE | Performance Test Waiver for Dioxin/Furan on Seven Boilers at a Chemical Plant.
1900021 | NSPS | DDDD | Alternative Monitoring Request for Scrubber on a Waste Heat Boiler.
1900022 | NSPS | DDDD | Performance Test Waiver for Hydrogen Chloride at Solid Waste Incineration Units.
1900023 | NSPS | A | Withdrawal of Regulatory Interpretation for NSPS Part 60 Subpart A Notification, Recordkeeping, and Monitoring Requirements.
A160003 | Asbestos | M | Regulatory Clarification of Documentation to Identify Building Materials as Non-Asbestos Containing Material.
FP00007 | Federal Plan | HHH | Alternative Operating Parameter Request for Hospital/Medical/Infectious Waste Incinerator.
M100091 | MACT | A, DDDDD | Regulatory Interpretation Regarding Use of Electronic Reporting Tool.
M150022 | MACT | DDDDD | Applicability Determination for Two Boilers at a Pulp and Paper Mill.
M180003 | MACT | EEE | Alternative Monitoring Request for Flue Gas Flow Rate at Three Hazardous Waste Combustion Incinerators.
M180006 | MACT | ZZZZ | Additional Non-Emergency Run-Time Hours Request for Emergency Diesel Generator.
M180007 | MACT | HHHHH | Alternative Operating Parameters Request for Carbon Adsorption System at Coating Manufacturing Facility.
M180008 | MACT | EEE | Waiver Request for Maximum Ash Feed Rate Operating Parameter Limit for Three Hazardous Waste Incinerators.
M180009 | MACT | HH | Alternative Monitoring Plan for Ethylene Glycol Cooling Jacket Leak Detection at Six Gas Processing Plants.
M180010 | MACT | HH, DDDDD | Applicability Determination for Glycol Dehydration Reboiler at a Compressor Station.
M180012 | MACT | CC | Temporary Alternative Monitoring Request for Flare Pilot Flame at a Refinery.
M180013 | MACT | ZZZZ | Applicability Determination for Five Stationary Combustion Engines at a Booster Station.
M190001 | MACT | ZZZZ | Monitoring Waiver Request for Catalyst Inlet Temperature for Non-emergency Generators.
M190002 | MACT | FFFF | Alternative Monitoring Request for Pilot Flame on Hydrogen Flare.
M190003 | MACT | MM | Alternative Monitoring Request for Lime Kiln Scrubber.
Z180003 | NESHAP | ZZZZ | Alternative Monitoring Request for Two Internal Combustion Engines at a Nuclear Power Station.
Z180004 | NESHAP | LLLLL | Alternative Monitoring Plan for Asphalt Storage Tanks During Annual Regenerative Thermal Oxidizer Shutdown.

Abstracts

Abstract for [1600003]

Q1: Does EPA determine that four new proposed diesel engines at Taunton Municipal Light Plant's (TMLP's) West Water Street facility in Taunton, Massachusetts, subject New Source Performance Standards for Stationary Compression Ignition Internal Combustion Engines, 40 CFR part 60, subpart IIII, would maintain their EPA NSPS Tier 4 certification with the addition of supplemental controls?

A1: Yes. Based on the statement provided by the vendor that the add-on DeNOx system will not affect the certification or the operation of the factory emissions controls of the engines, and as long as the engines are certified, operated and maintained according to the applicable provisions for manufacturers and owners of certified engines, EPA finds the addition of the supplemental DeNOx system controls will not affect the certification of the engine.

Q2: Does EPA determine that the provisions in 40 CFR 60.4211(g) requiring engine testing apply to these engines?

A2: No. EPA has determined that as long as TMLP installs, configures, operates, and maintains the proposed Tier 4 certified engines and control devices according to the manufacturers emission-related instructions, and TMLP does not change the engine emission-related settings in a way that is not permitted by the manufacturer, the provisions of 40 CFR 60.4211(g) would not apply to the proposed engines.

Abstract for [1800004]

Q: Does EPA approve an Alternative Monitoring Plan (AMP) for Diversified Vapor Technologies (DVT) to conduct monitoring of hydrogen sulfide (H2S) emissions, in lieu of installing a continuous emission monitoring system (CEMS), when performing tank degassing and other similar operations controlled by portable, temporary thermal oxidizers, at various refineries located within Region 6 states that are subject to NSPS subparts J or Ja?

A: Yes. Based on the description of the process, the vent gas streams, the design of the vent gas controls, and the H2S monitoring data furnished, EPA conditionally approves the AMP since it is impractical to require monitoring via an H2S CEMS. As part of the conditional approval, EPA is including proposed operating parameter limits and data which the refineries must furnish to DVT. The approved AMP is only for degassing operations conducted at refineries in EPA Region 6.

Abstract for [1800010]

Q: Does EPA approve modifications to previously issued Alternative Monitoring Plans (AMPs) for Low Energy Jet Ejector Venturi (JEV) type Wet Gas Scrubbers (WGS) on two Fluidized Catalytic Cracking Units (FCCU) at the ExxonMobil Baytown Refinery, located in Baytown, Texas, subject to NSPS subparts J and Ja, and also to requirements of NESHAP subpart UUU, for parametric monitoring of opacity at the WGSs in lieu of a Continuous Opacity Monitoring System (COMS), due to changes in operating conditions at the units when moisture levels are high in the stacks?

A: Yes. Based upon the design of the WGS units and the process specific supplemental information provided, EPA approves the AMP modifications to use parametric monitoring in lieu of COMS. EPA reviewed the recent performance test results and found the data supportive for the revised final operating parameter limits (OPLs). The OPLs that EPA approves for demonstrating compliance with the AMP include minimum L/G, maximum effluent stack gas temperature, and the updated liquid flow calculation using the inlet JEV pressure and the JEV nozzle size as the restriction orifice variable.

Abstract for [1800011]

Q: Does EPA approve modifications to previously issued Alternative Monitoring Plans (AMPs) for Low Energy Jet Ejector Venturi (JEV) type Wet Gas Scrubbers (WGSs) on two Fluidized Catalytic Cracking Units (FCCUs) at the ExxonMobil Beaumont Refinery, located in Beaumont, Texas, subject to NSPS subparts J and Ja, and also to requirements of NESHAP subpart UUU, for parametric monitoring of opacity at the WGSs in lieu of a Continuous Opacity Monitoring System, due to changes in operating conditions at the units when moisture levels are high in the stacks?

A: Yes. Based on evaluation of results from three one-hour test runs, consistent with the FCCU operating conditions during the performance test, EPA approves the AMP modifications to use parametric monitoring in lieu of COMS, including the minimum L/G and a new maximum coke burn-off rate for the FCCU.

Abstract for [1800012]

Q1: Does EPA approve a waiver of the requirement to conduct Method 9 annual opacity tests under NSPS EEEE, applicable to Other Solid Waste Incinerators (OSWI), for a portable air curtain incinerator (ACI) owned by Hidden Lake Property Owners Association (HLPO) in Angel Fire, New Mexico?

A1: No. EPA does not grant the waiver for annual opacity testing using Method 9. This test is required to demonstrate compliance with startup and operating requirements of the ACI under the OSWI NSPS EEEE rule. OSWI NSPS rule at 40 CFR 60.2972(d) allows annual testing to occur upon startup of the unit, if periods longer than 12 months have passed since the prior annual test was conducted. If the unit is only operated a few months of the year, there is no requirement to maintain Method 9 opacity reader certification all year long, but only to obtain certification for those periods in which the ACI is operated and must be tested.

Abstract for [1800014]

Q1: Does EPA approve Environtech's request for an alternative timeline of 120 days from the date of initial exceedance to correct oxygen exceedances at several wells at its Morris, Illinois landfill subject to NSPS subpart WWW, applicable to municipal solid waste (MSW) landfills, if the design plan was amended to add some wells and remove other wells including the wells with the oxygen exceedances?

A1: No. EPA does not approve an alternative timeline of 120 days for the landfill to exceed the oxygen standard at several wells while landfill construction is underway. While NSPS subpart WWW allows an owner or operator to expand the landfill to correct an exceedance, the proposed design plan changes in this situation do not increase capacity and are not an expansion. In addition, the changes to the well system are not directly related to correcting the exceedances at the wells in question (other than to remove them).

Q2: Does EPA approve Environtech's request for an alternative timeline of 120 days from the date of initial exceedance to correct oxygen exceedances at a well that may have excess liquids?

A2: No. EPA does not approve the alternative timeline. While the NSPS subpart WWW allows an owner or operator to expand the landfill to correct an exceedance, that is not what is occurring in this situation. Rather, Environtech has determined that there may be liquids in this well and wants 120 days to complete the investigation and make repairs. EPA considers a period of 120 days an excessive amount of time to determine whether excess liquids are present and repair a well. EPA does not give alternative timelines to diagnose the causes of exceedances.

Abstract for [1800015]

Q1: Does EPA determine that certain processes at the Hi-Crush Proppants LLC (Hi-Crush) facilities located in Augusta, Blair, and Whitehall, Wisconsin meet the definitions of crush and nonmetallic mineral processing plants subject to 40 CFR part 60, subpart OOO, applicable to nonmetallic mineral processing plants?

A1: Yes. EPA determines that the Hi-Crush facilities meet the definition of nonmetallic mineral processing plants because they operate crushers that crush nonmetallic mineral material.

Q2: Does EPA determine that the processes downstream of the surge pile of washed sand stockpile are considered part of the nonmetallic mineral processing plant?

A2: The processes downstream of the surge pile at all three facilities and the processes downstream of the washed sand stockpile at the Blair facility are part of the “production line” of the nonmetallic mineral processing plant and subject to subpart OOO. While the processes downstream of the washed sand stockpile at the August and Whitehall facilities are not considered part of the nonmetallic mineral processing plant because these do not convey materials downstream within the nonmetallic mineral processing plant.

Abstract for [1800016]

Q: Does EPA determine that an incinerator owned by Covance Laboratories, Inc. (Covance), located in Greenfield, Indiana, in which 67 percent of the burned waste was municipal solid waste is subject to Emission Guidelines and Compliance Times for Commercial and Industrial Solid Waste Incineration (CISWI) Units, 40 CFR part 60, subpart DDDD?

A: No. EPA determines that Covance's incinerator is not a CISWI unit subject to Indiana's federally-approved state plan for CISWI units. However, subpart DDDD does not directly establish enforceable emission standards and other requirements applicable to the owner or operator of a CISWI unit. Further, Covance's incinerator would not be subject to an approved state plan that is based on and consistent with the current subpart DDDD.

Abstract for [1800017]

Q1: Does EPA approve the alternative monitoring request from St. Paul Park Refining Co. LLC (SPP) to use an alternative monitoring plan (AMP) for monitoring hydrogen sulfide (H2S) and sulfur dioxide (SO2) emissions from portable flares and fuel gas combustion devices (FGCDs) used to control emissions from storage tank, process unit vessel and piping degassing for maintenance and cleaning events at the St. Paul Park, Minnesota refinery subject to NSPS subparts J and Ja?

A1: Yes. EPA approves the alternative monitoring plan since it is impractical to continuously monitor the H2S in and SO2 emissions from gases going to portable FGCDs during the infrequent and temporary events when storage tanks, process unit vessels and piping are degassed for maintenance and cleaning operations.

Q2: Does EPA approve SPP's request, pursuant to 40 CFR 60.8(b), to waive the performance testing requirements under NSPS subparts J and Ja when performing storage tank degassing and cleaning operations and using a flare or FGCD for VOC emission control?

A2: Yes. EPA approves the performance testing waiver request for portable FGCSs because the provisions of the AMP will demonstrate SPP's compliance with the NSPS subpart J or Ja standard.

Abstract for [1800018]

Q: Does EPA approve Green Bay Metropolitan Sewerage District's request to use site specific operating parameters, operating limits, and averaging periods of a nitrogen oxides (NOX) emissions control device at a new fluid bed sewage sludge incinerator (FBI) subject to 40 CFR subpart LLLL, at its wastewater treatment plant in Green Bay, Wisconsin?

A: Yes. EPA finds that the proposed parametric monitoring for used of the selective non-catalytic reduction (SNCR) technology to control NOX emissions from the FBI is sufficient to ensure compliance with the NOX emission limit at 40 CFR 60.4845. Under 40 CFR 60.4855(b), an affected source that does not use a wet scrubber, fabric filter, electrostatic precipitator, or activated carbon injection to comply with an emission limit can petition the Administrator for specific operating parameters, operating limits, and averaging periods to be established during the initial performance test and to be monitored continuously thereafter.

Abstract for [1800019]

Q: Does EPA approve an Alternative Monitoring Plan for alternate span gas concentration values for hydrogen sulfide on total reduced sulfur (TRS) continuous emissions monitoring systems (CEMS) for six flares at the CITGO Lake Charles Manufacturing Complex (CITGO) petroleum refinery in Lake Charles, Louisiana covered under NSPS subparts A and Ja?

A: Yes. Based on the process data and analyzer information submitted, EPA conditionally approves the request with specified concentration ranges. Additionally, CITGO must conduct linearity analysis on the TRS CEMS once every three years to determine each detector's linearity across the entire range of expected sulfur concentrations. A report of each completed linearity analysis shall be submitted to EPA Region 6 and the Louisiana Department of Environmental Quality and maintained in each facility's on-site records.

Abstract for [1800020]

Q: Does EPA approve an Alternative Monitoring Plan for alternate span gas concentration values for hydrogen sulfide on total reduced sulfur (TRS) continuous emissions monitoring systems (CEMS) for a refinery flare at the Placid Refining Company LLC (Placid) refinery in Port Allen, Louisiana covered under NSPS subparts A and Ja?

A: Yes. Based on the process data and analyzer information submitted, EPA conditionally approves the request with specified concentration ranges. Additionally, Placid must conduct linearity analysis on the TRS CEMS once every three years to determine each detector's linearity across the entire range of expected concentrations of acid gas vent streams. A report of each completed linearity analysis shall be submitted to EPA Region 6 and the Louisiana Department of Environmental Quality and maintained in each facility's on-site records.

Abstract for [1800021]

Q: Does EPA approve a modification to a previously issued Alternative Monitoring Plan (AMP) for a Wet Gas Scrubber (WGS) on a Fluidized Catalytic Cracking Unit at a Phillips 66 Company refinery, in Sweeny, Texas, subject to NSPS part 60 subpart J, and also new requirements of NESHAP part 63 subpart UUU, for parametric monitoring of opacity at the WGS in lieu of a Continuous Opacity Monitoring System, due to moisture interference on opacity readings in the stack?

A: Yes. Based upon the design of the WGS unit and the process specific supplemental information provided, EPA approves the AMP modification. EPA reviewed the recent performance test results and found the data supportive for retaining the establishing final OPLs. The OPLs approved for demonstrating compliance with the AMP included minimum Liquid-to-Gas Ratio, minimum water pressure to the quench/spray tower nozzles, and minimum pressure drop across filter modules/cyclolabs.

Abstract for [1800022]

Q: Does EPA approve a modification to a previously issued Alternative Monitoring Plan (AMP) for a Wet Gas Scrubber (WGS) on a Regenerative Catalytic Cracking Unit (RCCU) at the Shell Oil Products US refinery located in Norco, Louisiana, subject to NSPS part 60 subpart J, and also new requirements of NESHAP part 63 subpart UUU, for parametric monitoring of opacity at the WGS in lieu of a Continuous Opacity Monitoring System, due to moisture interference on opacity readings in the stack?

A: Yes. Based upon the design of the WGS unit and the process specific supplemental information provided, EPA approves the AMP modification. EPA reviewed the recent performance test results and found the data supportive for retaining the established final operating parameter limits (OPLs). The OPLs approved for demonstrating compliance with the AMP were minimum Liquid-to-Gas Ratio and Venturi Inlet Differential Pressure, defined as the flue gas inlet pressure to the four venturis, measured in inches water.

Abstract for [1800023]

Q: Does EPA approve a monitoring exemption in lieu of an Alternative Monitoring Plan for combusting an off-gas vent stream from a lean amine tank as an inherently low-content sulfur stream under NSPS for Refineries part 60 subpart Ja at the Wynnewood Refining Company, LLC (WRC) refinery located in Wynnewood, Oklahoma?

A: Yes. EPA conditionally approves the monitoring exemption for the off-gas vent stream. Based on the process operating parameters and monitoring data submitted by WRC, EPA determines that the vent gas stream is inherently low in sulfur according to 40 CFR 60.107a(a)(3)(iv). If the sulfur content or process operating parameters for the off-gas vent stream change from representations made for the monitoring exemption, WRC must document the changes, re-evaluate the vent stream characteristics, and follow the appropriate steps outlined in 40 CFR 60.107a(b)(3). The monitoring exemption should also be referenced and attached to the facility's new source review and Title V permit for federal enforceability.

Abstract for [1800024]

Q: Does EPA approve a monitoring exemption in lieu of Alternative Monitoring Plan (AMP) for monitoring process parameters that affect hydrogen sulfide (H2S) concentrations in a vent gas stream, instead of installing a continuous emission monitoring system (CEMS) under NSPS subpart J, for a refinery to combust the off-gas vent stream from a Liquefied Petroleum Gas Merox Oxidizer Vent identified as inherently low in sulfur content and that is routed to Shell-Claus Off-Gas Treatment Unit Tail Gas Incinerator, at the Valero Corpus Christi West Refinery located in Corpus Christi, Texas?

A: Yes. Based on the description of the vent gas stream, the process parameters to be monitored, the design of the vent gas controls, and the H2S monitoring data furnished, EPA conditionally approves the monitoring exemption. EPA is including the facility's proposed operating parameter limits, which the facility must continue to monitor, as part of the conditional approval. If refinery operations change such that the sulfur content of the off-gas stream changes from representations delineated in the AMP, then Valero must document the change(s) and follow the appropriate steps at 40 CFR 60.105(b)(3)(i)-(iii).

Abstract for [1800025]

Q: Do the flow-through transfer sumps used at DCP Midstream's (DCP's) natural gas booster stations in Oklahoma meet the definition of affected storage vessels under NSPS subpart OOOO, applicable to crude oil and natural gas production, transmission and distribution?

A: No. Based on the design and operation data that DCP furnished, and EPA's review of the additional information submitted by the Oklahoma Department of Environmental Quality, EPA determines that the transfer sumps function as knockout vessels, and do not meet the definition and criteria to be an affected storage vessel under NSPS OOOO. EPA considered certain characteristics of the transfer sumps, including that there is a physical separation process operation that occurs, and the purpose of the sump is to provide for that physical separation. Additionally, collection of materials in the sumps is dependent on upstream process variables, not downstream operator discretion. In consideration of the process variables that may affect physical separation, transfer of collected separated materials to other vessels is accomplished by an automatic flow controller or other device with defined set points that trigger transfer, independent of operator action.

Abstract for [1800026]

Q1: Does EPA confirm that when firing an emergency fuel from a combustion turbine as defined in 40 CFR parts 72 and 75, that in accordance with appendix E, section 2.5.2.3, Marshfield Utilities (Marshfield), located in Marshfield, Wisconsin, may continue to use the nitrogen oxides (NOX) correlation curve derived from the most recent stack test for monitoring and reporting the NOX emission rate?

A1: Yes. EPA confirms that Marshfield may use the most recently derived NOX correlation curve for monitoring and reporting of NOX emissions, but, according to appendix E paragraph 2.2, Marshfield may not use the most recently derived NOX correlation curve if that curve is over 5 years old.

Q2: Does EPA determine that Marshfield may continue to use the NOX correlation curve derived from the most recent stack test for monitoring and reporting the NOX emission rate even if the data is more than 5 years old?

A2: No. Paragraph 2.2 of appendix E clearly states that a correlation curve cannot be used for more than 20 calendar quarters.

Q3: Since appendix E does not require testing of emergency fuels and EPA's 2012 waiver determination requires Marshfield to follow the testing requirements of appendix E only, does EPA determine that the waiver could also waive NOX performance testing for distillate fuel oil when it is designated as an emergency fuel?

A3: Under paragraph 2.1.4 of appendix E, Marshfield is permitted to claim an exemption from the testing requirements for emergency fuels, but, if it does so, it must rely on the NOX Maximum Emission Rate (MER) for distillate fuel oil (200 ppm) for monitoring and reporting NOX emissions from combustion of the emergency fuel. Although paragraph 2.5.2.3 allows for use of a NOX correlation curve for monitoring and reporting combustion of emergency fuels, a NOX correlation curve cannot be used after it is over 5 years old. In such an instance, the NOX MER must be used. Because appendix E's NOX MER for distillate fuel oil (200 ppm) is greater than the NSPS KKKK NOX emission limit for fuel oil (74 ppm), NOX emission rate testing for distillate fuel oil must be conducted (and must show emission results at or below the limit in NSPS KKKK) to remain in compliance with NSPS KKKK when firing distillate fuel oil, whether or not as an emergency fuel.

Abstract for [1800027]

Q: Does EPA approve Tate & Lyle Ingredients Americas LLC's (Tate & Lyle's) request that the two Riley Stoker circulating fluid beds (CFB) boilers at its Decatur, Illinois corn wet milling facility be allowed to use the alternative rate and emission limit for sulfur dioxide (SO2) set forth in 40 CFR 60.42b(k)(4) of subpart Db, rather than the current applicable rate and emission limit set forth in 40 CFR 60.43(a)(2) of subpart D?

A: Yes. Based on the information provided and as allowed under 40 CFR 60.43(d), EPA approves the Tate & Lyle's request with the assumption that all versions of the ASTM D2234 used by Tate & Lyle (e.g., ASTM methods for analysis of sulfur in the coal and the gross calorific value) are specifically allowed under EPA Method 19.

Abstract for [1800028]

Q1: Does EPA approve site-specific operating parameter limits (OPLs) under NSPS subpart DDDD for three separate Energy Recovery Units (ERUs) located at the Americas Styrenics LLC facility in St. James, Louisiana?

A1: Yes. Upon review of the site-specific information provided, EPA conditionally approves the request for site-specific OPLs. Because the residue oil burned in all three ERUs is a non-hazardous secondary material that meets the definition of a solid waste per 40 CFR 241.3, all three ERUs must meet requirements specified in subpart DDDD, including performance testing. Each ERU must be performance tested to demonstrate compliance with emission limitations at four different test conditions that represent the overall operational range of the units. EPA categorized and evaluated the type of operating parameters to be established, based upon the type of monitoring to be conducted following the initial performance testing.

Q2: Does EPA also approve a waiver related to the monitoring of oxygen levels during startup and shutdown of the ERUs under subpart DDDD, based upon the Commercial and Industrial Solid Waste Incineration Units (CISWI) rule?

A2: No. EPA does not approve the monitoring waiver because the startup and shutdown provisions specific to ERUs in the 2016 final CISWI rule apply.

Abstract for [1800029]

Q: Does EPA determine that a fuel change from landfill gas (LFG) to natural gas (NG) at the Milam Recycling & Disposal Facility in East St. Louis, Illinois is a modification under the NSPS subpart JJJJ if the engines were originally designed to combust NG, then combusted LFG, and now combust NG? Changes to the fuel regulator and air-to-fuel ratio were needed to change from NG to LFG and then back again.

A: No. EPA determines that the use of NG as a fuel source in the three engines does not constitute a modification under the NSPS. The Caterpillar 3516 engines were designed to combust NG. The relatively minor changes made to the fuel regulator and to the air-to-fuel ratio did not change the fact that the engines themselves were and are capable of accommodating NG. In addition, the Title V permit in effect at the time of the request allowed the use of both LFG and NG.

Abstract for [1800030]

Q1: Does the EPA determine that gypsum dryer units at the Calcium Products facility in Fort Dodge, Iowa, subject to 40 CFR part 60, subpart UUU with a Potential to Emit less than 11 tons per year of particulate matter (PM) are exempt from monitoring requirements?

A1: Yes. EPA determines that the facility has successfully demonstrated via stack test to have potential PM emissions less than 11 tons per year and is exempt from the monitoring requirements in 40 CFR 60.743. The exemption is under the condition that Calcium Products will operate and maintain the control devices in a manner consistent with good engineering control practices anytime the dryers are in operation, this would include ensuring that fabric bags are in good working order at all times.

Q2: Does EPA approve the alternative monitoring request to use a Bag Leak Detection System (BLDS) in lieu of the Continuous Opacity Monitors at the facility?

A2: Yes. EPA conditionally approves the alternative monitoring request to use BLDS. Calcium Products is required to immediately document any BLDS alarms and take corrective actions to reduce or eliminate the cause of the alarms. The failure to immediately investigate, document the root cause, and implement corrective actions to minimize or eliminate the cause of the alarm will be considered a violation of the monitoring requirements of 40 CFR 60.734. The AMP conditions are specified in the EPA response letter.

Abstract for [1800031]

Q: Does EPA approve the Phillips 66 request to conduct a top-side in-service inspection to meet the internal out-of-service inspection requirements for internal floating roof (IFR) storage tanks subject to 40 CFR part 60, subpart Kb at multiple facilities?

A: Yes. Based on the tank data and the inspection procedures described in Phillips 66's AMP request, EPA has determined under 40 CFR 60.13(i) that the specified IFR storage tanks can be properly inspected and repaired with the proposed top-side internal inspection methodology. Phillips 66 agrees to use the inspection requirements in 40 CFR 63.1063(d) of NESHAP subpart WWW, which require the facility to identify and address any gaps of more than 0.32 centimeters (⅛ inch) between any deck fitting gasket, seal, or wiper and any surface that it is intended to seal, instead of complying with the less rigorous visual inspection requirements under NSPS subpart Kb for which a measurement criterion is not established. EPA's approval of this AMP is contingent upon Phillips 66 continuing to have visual access to all deck components specified in paragraph (a) of 40 CFR 63.1063.

Abstract for [1800032]

Q: Does EPA determine that autoclaves operated by GP Industrial Plasters LLC (GP), located in Blue Rapids, Kansas, are classified as calciners and subject to 40 CFR part 60, subpart UUU?

A: No. EPA determines that the autoclaves operated by GP release no particulate matter to the environment during the processing of gypsum since these are used to remove water from gypsum rock. However, the pan dryers, where the gypsum is discharged to, are still subject to UUU.

Abstract for [1800033]

Q: Does EPA approve HollyFrontier Cheyenne Refining LLC's (HFCR's) alternative monitoring plan request to use data from low range hydrogen sulfide validations and daily and quarterly cylinder gas audits as an alternative to the total reduced sulfur quality assurance procedure described in 40 CFR 60.107a(e)(1)(iii) for the Coker flare at the HFCR refinery in Cheyenne, Wyoming subject to NSPS subpart Ja?

A: Yes. EPA conditionally approves the HFCR's request and is requiring higher concentration calibrations for the high span portion of the analyzer. The approval is conditioned on HFCR's agreement that it will not challenge any of the high range values measured by the analyzer even though higher concentration calibration gases will not be used for daily and periodic calibrations.

Abstract for [1800034]

Q: Does EPA approve Sinclair Casper Refining Company's (SCRC's) alternative monitoring plan (AMP) request to use the lower concentration of hydrogen sulfide as an alternative to the total reduced sulfur quality assurance procedure described in 40 CFR 60.107a(e)(1)(iii) for a refinery flare at the SCRC refinery in Casper, Wyoming subject to NSPS subpart Ja?

A: Yes. EPA conditionally approves the AMP request and is requiring higher concentration calibrations for the high span portion of the analyzer. The approval is conditioned on SCRC's agreement that it will not challenge any of the high range values measured by the analyzer even though higher concentration calibration gases will not be used for daily and periodic calibrations.

Abstract for [1800035]

Q: Does EPA approve Marshfield Utilities' (Marshfield) waiver of the frequency of nitrogen oxides (NOX) emission rate testing for emergency fuels on combustion turbine that is subject to the statutes of 40 CFR part 60, subpart KKKK (NSPS KKKK) and 40 CFR part 75, appendix E (appendix E)?

A: EPA determines that Marshfield Utilities may rely upon the exemption in appendix E, at section 2.1.4, to forgo appendix E's NOX performance testing requirements for distillate fuel oil as an emergency fuel but only after it has received all appropriate modifications to its permit(s) necessary to designate distillate fuel oil as an emergency fuel under 40 CFR part 75. All emissions reported pursuant to appendix E, must use the NOX maximum emission rate (MER) for distillate fuel oil. Since the distillate fuel oil NOX MER of appendix E is greater than the NOX compliance limit established by NSPS KKKK, performance testing for emergency fuel under NSPS KKKK is required. Therefore, the NOX emission rate testing for distillate fuel oil, as an emergency fuel, may be conducted every 5 years in accordance with the testing requirements of NSPS KKKK.

Abstract for [1800036]

Q1: Does EPA determine that 40 CFR part 60, subpart JJJJ applies to a 1,550 bhp, non-emergency spark ignition internal combustion engine (SI ICE) that will use a blend of digester gas/natural gas?

A1: Yes. EPA determines that 40 CFR part 60, subpart JJJJ does apply to a non-emergency SI ICE constructed after June 12, 2006, and manufactured on or after July 1, 2007, that will use a blend of digester gas/natural gas.

Q2: If subpart JJJJ applies, which of the emission standards in Table 1 to subpart JJJJ apply to the engine?

A2: When the engine burns a blend of natural gas and landfill/digester gas, it must comply with both emission standards of Table 1 to subpart JJJJ (the standards for natural gas engines and the standards for landfill/digester gas engines). Therefore, an engine in question must meet the more stringent standards that apply, which are for engines that burn natural gas.

Abstract for [1800037]

Q: Does EPA agree with the Oklahoma Department of Environmental Quality's (ODEQ's) determination that a Solar MARS 90 turbine located in Oklahoma does not need to comply with the NOX standard of NSPS subpart GG?

A: No. EPA indicated to ODEQ that the turbine must comply with the NOX standard as required by 40 CFR 60.332(d). EPA agreed that 40 CFR 60.332(b) applies to only electric utility stationary gas turbines, and that 40 CFR 60.332(c) is not applicable because the Solar MARS 90 turbine is rated at 114 MMBtu/hour and has a heat input at peak load greater than 100 MMBtu/hour. EPA did not agree with ODEQ's interpretation that 40 CFR 60.332(d) is only applicable to electric utility stationary gas turbines.

Abstract for [1800038]

Q: Does EPA determine that three newly installed engines at the Enable Midstream Partners, LP F&H compressor station located in Latimer County, Oklahoma are subject to area source requirements under 40 CFR part 63, subpart ZZZZ (RICE NESHAP)?

A: Yes. EPA determines that the engines would be subject to area source requirements under the RICE NESHAP and would only need to demonstrate compliance by meeting requirements of NSPS subpart JJJJ. On January 25, 2018, EPA issued a new guidance memorandum that superseded previous OIAI policy. Under the new guidance, a major source that takes an enforceable limit on its potential to emit and brings its HAP emissions below the applicable threshold becomes an area source, irrespective of when the source limits its potential to emit. Enable took steps to reduce the facility-wide potential to emit to below major HAP source levels prior to removing four existing engines and installing three new engines. Since the new engines were installed after the facility status changed to an area source for HAP emissions, the new engines are subject to the area source requirements under 40 CFR 63.6590(c), which specifies that a new or reconstructed stationary engine located at an area source must meet RICE NESHAP requirements by complying with the requirements of 40 CFR part 60, subpart IIII, for compression ignition engines, or 40 CFR part 60, subpart JJJJ, for spark ignition engines.

Abstract for [1800039]

Q: Does EPA approve an exemption from continuous monitoring requirements for hydrogen sulfide (H2S) concentrations in a vent gas stream under NSPS subpart Ja for fuel gas streams low in sulfur content at the Holly Refining Tulsa East Loading Terminal in Tulsa, Oklahoma, which combusts off-gas vent streams from gasoline and diesel product loading?

A: Yes. Based on the description of the vent gas streams, the product specifications and parameters that were monitored, the design of the vent gas controls, and the H2S monitoring data furnished, EPA conditionally approves three exemptions under NSPS subpart Ja. EPA included requirements for evaluating future additional products for sulfur content prior to loading as part of the conditional approval.

Abstract for [1800040]

Q: Does EPA approve an Alternative Monitoring Plan (AMP) for monitoring process parameters that affect hydrogen sulfide (H2S) concentrations in a vent gas stream subject to NSPS subpart Ja at the Marathon Petroleum refinery in Garyville, Louisiana, which combusts the off-gas vent stream from a light naphtha Merox Oxidizer unit at a refinery crude heater?

A: Yes. Based on the description of the vent gas stream, the key process parameter to be monitored, the design of the vent gas controls, and the H2S monitoring data furnished, EPA conditionally approves the AMP since it meets the exemption criteria of 40 CFR 60.107a(a)(3)(iv), for fuel gas streams that are low-sulfur and the Unit 210 Crude Heater does not need to meet the continuous monitoring requirements of either 40 CFR 60.107a(a)(l) or (2) under the NSPS Ja. EPA included the facility's proposed operating parameter limit which the facility must continue to monitor as part of the conditional approval.

Abstract for [1800041]

Q: Does EPA approve the request for an alternative monitoring plan (AMP) for the Monarch Waste Technologies, LLC (MWT) Pyromed Pyrolysis System to be operated at the Nambe Pueblo near Santa Fe, New Mexico as a hospital/medical/infectious waste incinerator (HMIWI) under NSPS Ec?

A: No. EPA determines that the petition does not provide specific information about the control equipment installed, nor does it provide sufficient other required information for a petition under 40 CFR 60.56c(j). Due to this lack of information, EPA cannot evaluate the AMP request. EPA previously provided information and guidance to the company related to implementation requirements under NSPS Ec after an on-site meeting and tour of the facility. However, the AMP petition submitted did not incorporate EPA's information. EPA's response outlines the areas of the petition that are in conflict with federal rule interpretations and requirements.

Abstract for [1800042]

Q1: Does EPA conditionally approve Motiva Enterprises, LLC's (Motiva's) request to modify a previously issued Alternative Monitoring Plan (AMP) for a Wet Gas Scrubber (WGS) on a Fluidized Catalytic Cracking Unit (FCCU) subject to NSPS subpart J, and also new requirements of NESHAP subpart UUU, for parametric monitoring of opacity at the WGS in lieu of a continuous opacity monitoring system, due to moisture interference on opacity readings in the stack at the Motiva refinery located in Port Arthur, Texas?

A1: Yes. Based upon the site-specific information and performance test data submitted, EPA approves operating parameter limits (OPLs) for the FCCU No. 3 WGS unit, taking into consideration all data from past test events where compliance was demonstrated with the 1 lb PM/1000 lbs of coke bum-off emission limitation. The OPLs approved for demonstrating compliance with the AMP included minimum Liquid-to-Gas Ratio, minimum water pressure to the quench/spray tower nozzles, and minimum pressure drop across filter modules/cyclolabs.

Q2: What alternative monitoring conditions were not approved?

A2: Although Motiva did not request a change in the type of operating parameters already approved, they proposed that the OPLs be established on a three-hour hourly rolling average basis rather than an a one-hour basis, using a 20 percent downward extrapolation to establish the minimum limits for each OPL from those values actually demonstrated during the most recent performance test. EPA will not approve a downward extrapolation of data for operation from results of one performance test. Operating parameters to be established are minimum value limits, and test results should be representative of typical operating conditions under test conditions designed to demonstrate compliance in consideration of potentially worst-case emissions over the full range of operating scenarios.

Abstract for [1800043]

Q: Does EPA approve Phillips 66 Sweeny Refinery's (PSR's) request to use a sulfur dioxide (SO2) Continuous Emissions Monitoring System (CEMS), and calculation of the flue gas flow rate and coke burn-off rate as an alternative for determining compliance with the emission limitation for sulfur oxides (SOX) at a fluidized catalytic cracking unit (FCCU) subject to NSPS subpart J at its refinery located in Sweeny, Texas?

A: Yes. Based on the test results and information submitted, EPA conditionally approves the request to use the FCCU SO2 CEMS data with a correction factor to account for non-SO2 SOX, and calculations for flue gas flow rate and coke burn-off rate to generate SOX continuous data in lieu of daily Method 8 testing. In addition, PSR will conduct Method 8 compliance testing at the FCCU once every five years.

Abstract for [1800044]

Q: Does EPA approve site-specific alternative monitoring operating parameter limits (OPLs) under NSPS subpart Ec for the alternate control scenario during start up and shut down of two hospital/medical/infectious waste incinerators (HMIWI) at the Stericycle, Inc. Springhill facility located in Sarepta, Louisiana?

A: No. Based upon the information provided, EPA denied the petition and testing waiver request because there is no need to distinguish a separate operational mode and control scenario specific only to startup and shutdown of each HMIWI, nor to establish separate requirements for monitoring, recordkeeping, and reporting that would be specific only to startup and shutdown periods for each HMIWI. The rule intent is clear that a minimum combustion chamber temperature must be achieved prior to operations and at all times when waste is combusted, and for controls to be operated at all times without bypass.

Abstract for [1800045]

Q: Does EPA approve HollyFrontier El Dorado Refining LLC's (HFEDR's) request to use an alternative monitoring plan (AMP) for a mass spectrometer (MS) analyzer for the NSPS subpart Ja sulfur monitoring requirements for the flare system at its refinery in El Dorado, Kansas to allow for reduced concentrations of calibration gases to perform daily validations and quarterly cylinder gas audits (CGA) as required by 40 CFR 60.13(d) and 40 CFR part 60, appendix F?

A: Yes. EPA conditionally approves the AMP using a lower portion of the MS analyzer due to safety concerns associated with handling gases with high concentrations of hydrogen sulfide, and given that total reduce sulfur monitoring is used for determining a work practice threshold contained in the regulation (i.e. the root cause analysis/corrective action) as opposed to monitoring an emission limit for compliance. The conditions are specified in the EPA response letter, which includes that the analyzer detector is linear across the span of the analyzer and HFEDR submits the CGA quarterly audit results to EPA Region 7, on a frequency of no less than semi-annually.

Abstract for [1800046]

Q: Does EPA approve CHS McPherson Refinery, Inc.'s (CHS's) request to use an alternative monitoring plan (AMP) for a mass spectrometer (MS) analyzer for the NSPS subpart Ja sulfur monitoring requirements for the main flare at its refinery in McPherson, Kansas to allow for reduced concentrations of calibration gases to perform daily validations and quarterly cylinder gas audits (CGA) as required by 40 CFR 60.13(d) and 40 CFR part 60, appendix F?

A: Yes. EPA conditionally approves the AMP for using a lower portion of the MS analyzer due to safety concerns associated with handling gases with high concentrations of hydrogen sulfide, and given that total reduce sulfur monitoring is used for determining a work practice threshold contained in the regulation (i.e. the root cause analysis/corrective action) as opposed to monitoring an emission limit for compliance. The with conditions are specified in the EPA response letter, which includes that the analyzer detector is linear across the span of the analyzer and CHS submits the CGA quarterly audit results to EPA Region 7, on a frequency of no less than semi-annually.

Abstract for [1800047]

Q: Does EPA approve Dartmouth College's request to de-rate Boiler #1, subject to 40 CFR part 60, subpart Db, to a heat input rating of 98 MMBtu/hour at its central heating plant located in Hanover, New Hampshire?

A: Yes. EPA determines that the de-rating criteria for an acceptable project physical changes proposed by Dartmouth College in its February 27, 2018 letter are acceptable and approves the request with conditions. This approval of Dartmouth's de-rate proposal will become void if the unit exceeds an average of 100 MMBtu of heat input in any hour of operation.

Abstract for [1900001]

Q: Due to safety concerns with conducting a relative accuracy test audit (RATA) for a flare subject to NSPS subpart Ja which is normally recovering flare gases, does EPA approve the BP Products North America, Inc. (BP) request to conduct a cylinder gas audit rather than a RATA for the hydrogen sulfide continuous emission monitoring systems at its Whiting, Indiana refinery?

A: Yes. Due to the flare specific configuration and gas composition, EPA approves BP's requested alternative for a period of one year to develop procedures or implement other changes as it determines are necessary in order to safely conduct the required RATA, after which BP must conduct the annual RATA as required.

Abstract for [1900002]

Q: Does EPA approve alternate span gas concentration values for hydrogen sulfide (H2S) on total reduced sulfur (TRS) continuous emissions monitoring systems for ten flares at the Blanchard Refining Company, LLC (Blanchard) Galveston Bay Refinery in Texas City, Texas covered under NSPS subpart Ja?

A: Based on the process data and analyzer information submitted, EPA conditionally approves the request to reduce the concentrations of the calibration gas to specified ranges and validation standards on the CEMS for the 10 flares. Blanchard must conduct linearity analysis on the H2S gas chromatographs once every three years to determine each detector's linearity across the entire range of expected sulfur concentrations. The analysis must include four test gases in specified ranges. A report of each completed linearity analysis shall be submitted to EPA Region 6 and the Texas Commission on Environmental Quality and maintained in each facility's on-site records.

Abstract for [1900003]

Q: Does EPA approve alternate span gas concentration values for hydrogen sulfide on the total reduced sulfur (TRS) continuous emissions monitoring system for a flare at the HollyFrontier Navajo Refining LLC (HFNR) petroleum refinery in Artesia, New Mexico covered under NSPS subpart Ja?

A: Yes. Based on the process data and analyzer information submitted, EPA conditionally approves the request to reduce the concentrations of the calibration gas to specified ranges and validation standards on the CEMS for the flare. HFNR must conduct linearity analysis on the Extrel MAX300-IG once every three years to determine the detector's linearity across the entire range of expected sulfur concentrations. The analysis must include four test gases in specified ranges. A report of each completed linearity analysis shall be submitted to EPA Region 6 and the New Mexico Environment Department and maintained in each facility's on-site records.

Abstract for [1900004]

Q: Does EPA approve Blanchard Refining Company, LLC's request to modify a previously issued Alternative Monitoring Plan (AMP) for a Wet Gas Scrubber (WGS) on a Fluidized Catalytic Cracking Unit subject to NSPS subpart J, and also new requirements of NESHAP subpart UUU, for parametric monitoring of opacity at the WGS in lieu of a continuous opacity monitoring system, due to moisture interference on opacity readings in the stack located at the Galveston Bay Refinery in Texas City, Texas?

A: Yes. Based upon the design of the WGS unit and the process specific supplemental information provided, EPA approves the AMP modification. EPA reviewed the recent performance test results and found the data supportive for establishing the final operating parameter limits (OPLs). The OPLs approved for demonstrating compliance with the AMP included minimum Liquid-to-Gas Ratio for the filter module, minimum Liquid-to-Gas Ratio for the absorber section, and minimum pressure drop across filter modules/cyclolabs.

Abstract for [1900005]

Q: Does EPA approve the Flint Hills Resources (FHR) request to modify a previously issued Alternative Monitoring Plan (AMP) for a Wet Gas Scrubber (WGS) on a Fluidized Catalytic Cracking Unit subject to NSPS subpart J, and also new requirements of NESHAP subpart UUU, for parametric monitoring of opacity at the WGS in lieu of a continuous opacity monitoring system, due to moisture interference on opacity readings in the stack at the Corpus Christi East Refinery located in Corpus Christi, Texas?

A: Yes. Based upon the design of the WGS unit and the process specific supplemental information provided, EPA approves the AMP modification. EPA reviewed the recent performance test results and found the data supportive for establishing final operating parameter limits (OPLs). The OPLs approved for demonstrating compliance with the AMP included minimum Liquid-to-Gas Ratio and the throat velocity ratio.

Abstract for [1900006]

Q: Does EPA approve Phillips 66 Company's request to modify a previously issued Alternative Monitoring Plan (AMP) for a Wet Gas Scrubber (WGS) on a Fluidized Catalytic Cracking Unit, located at the Alliance Refinery in Belle Chasse, Louisiana, subject to NSPS subpart J, and also new requirements of NESHAP subpart UUU, for parametric monitoring of opacity at the WGS in lieu of a continuous opacity monitoring system, due to moisture interference on opacity readings in the stack?

A: Yes. Based upon the design of the WGS unit and the process specific supplemental information provided, EPA approves the AMP modification. EPA reviewed the recent performance test results and found the data supportive for establishing the final operating parameter limits (OPLs). The OPLs approved for demonstrating compliance with the AMP included minimum Liquid-to-Gas Ratio and minimum slurry liquid circulation pump discharge pressure.

Abstract for [1900007]

Q: Does EPA approve alternate span gas concentration values for hydrogen sulfide (H2S) on total reduced sulfur (TRS) continuous emissions monitoring systems for four flares at the Phillips 66 Ponca City Refinery in Ponca City, Oklahoma covered under NSPS subpart Ja?

A: Based on the process data and analyzer information submitted, EPA conditionally approves the request to reduce the concentrations of the calibration gas to specified ranges and validation standards on the CEMS for the four flares. Phillips 66 must conduct linearity analysis on the H2S and TRS analyzers once every three years to determine each detector's linearity across the entire range of expected concentrations of acid gas vent streams. A report of each completed linearity analysis shall be submitted to EPA Region 6 and the Oklahoma Department of Environmental Quality and maintained in each facility's on-site records.

Abstract for [1900008]

Q: Does EPA approve a monitoring exemption for an inherently low-sulfur fuel gas stream subject to NSPS subpart J to combust the off-gas vent stream from the delayed coking unit 843 disulfide oxidation tower T-6750 that is routed to Flare No.23, at the Valero Port Arthur Refinery (Valero) located in Port Arthur, Texas?

A: Yes. Based on the description of the vent gas stream, the process parameters to be monitored, the design of the vent gas controls, and the hydrogen sulfide monitoring data furnished, EPA agrees that the fuel gas is inherently low in sulfur, and conditionally approves the exemption. Valero must meet other applicable NSPS requirements to maintain and operate affected facilities and associated air pollution control equipment in a manner consistent with good air pollution control practices for minimizing emissions, and, may not use gaseous diluents to achieve compliance with the NSPS subpart J emission standard.

Abstract for [1900009]

Q: Does EPA grant the Chautauqua County Landfill, located in Jamestown, New York, a test waiver and agree that any future stack testing be conducted on one representative engine annually, in a staggered schedule such that each engine is tested once every 3 years to establish compliance with the performance testing requirements of 40 CFR 60.8 and subpart JJJJ?

A: Yes. Based on the information provided, EPA approves the request to conduct a performance test every 8,760 hours or 3 years, whichever comes first, for all five identical engines burning the same landfill gas fuel, and which are operated and maintained in the same manner, that were constructed after July 1, 2007 in a staggered schedule, to establish compliance with the performance testing requirements of 40 CFR 60.8 and subpart JJJJ.

Abstract for [1900010]

Q: Does EPA approve an exemption in lieu of Alternative Monitoring Plan (AMP) for an inherently low-sulfur fuel gas stream, instead of installing a continuous emission monitoring system (CEMS) under NSPS subpart J, for a refinery to combust the off-gas vent stream from the Unit 126 Butane Merox Disulfide Separator at the Marathon Petroleum Company LP (MPC) refinery located in Garyville, Louisiana?

A: Yes. Based on the description of the vent gas stream, the process parameters to be monitored, the design of the vent gas controls, and the hydrogen sulfide (H2S) monitoring data furnished, EPA agrees that the fuel gas is inherently low in sulfur, and approves the exemption. MPC must meet other applicable NSPS requirements to maintain and operate affected facilities and associated air pollution control equipment in a manner consistent with good air pollution control practices for minimizing emissions, and, may not use gaseous diluents to achieve compliance with the NSPS subpart J emission standard.

Abstract for [1900011]

Q: Does EPA approve a monitoring exemption for an inherently low-sulfur fuel gas stream subject to NSPS subpart Ja to combust the off-gas vent stream from the Light Naphtha Merox Unit Disulfide Separator that is routed to Crude Topper Heater 17H01, at the Valero Refining Houston, Texas Refinery (Valero Houston)?

A: Yes. Based on the description of the vent gas stream, the process parameters to be monitored, the design of the vent gas controls, and the hydrogen sulfide monitoring data furnished, EPA agrees that the fuel gas is inherently low in sulfur and approves the exemption. Valero Houston must meet other applicable NSPS requirements to maintain and operate affected facilities and associated air pollution control equipment in a manner consistent with good air pollution control practices for minimizing emissions, and, may not use gaseous diluents to achieve compliance with the NSPS subpart Ja emission standard.

Abstract for [1900012]

Q: Does EPA approve the request for an alternative monitoring plan with site-specific operating parameters for the Monarch Waste Technologies, LLC (MWT) Pyromed Pyrolysis System to be operated at the Nambe Pueblo near Santa Fe, New Mexico as a hospital/medical/infectious waste incinerator (HMIWI) under NSPS Ec?

A: Based on technical review of the information submitted, EPA conditionally approves the interim operating parameters but does not approve the proposed testing plan. EPA approves the daily loading rate of sorbent and the pressure drop across the ceramic filters. MWT must also monitor both the inlet and outlet temperatures of gases routed to and exiting the pollution control system because vent gas temperature may be an indicator of potential dioxin formation. To obtain approval of an initial performance testing plan, MWT must further develop a performance test plan that aligns with requirements of 40 CFR 60.8 and 40 CFR 60.56c and submit the plan for EPA to review and approve.

Abstract for [1900013]

Q: Does EPA approve Georgia Pacific, LLC's request for an exemption, based on economic feasibility, from the total reduced sulfur (TRS) standard in 40 CFR part 60, subpart BB to incinerate the exhaust gases from a brown stock washer (BSW) system for control of TRS emissions at its pulp mill in Crossett, Arkansas?

A: Yes. EPA determines that additional controls would be economically unfeasible; therefore, conditionally approves an exemption from the subpart BB standard for TRS for this BSW system. The determination is consistent with previous determinations EPA has made regarding economic feasibility of controlling TRS emissions from other BSW systems. This approval is conditional based on the implementation and maintenance of the 2016 GP Washer Proposal to route BSW exhaust gases to the incinerator. This determination is only the TRS limit in subpart BB and does not alter the applicability of TRS limits imposed under the state implementation plan, new source review requirements, or any other regulations. If installation of controls becomes economically feasible, then the exemption for TRS controls will no longer apply.

Abstract for [1900014]

Q: Does EPA approve the material balance proposed by the Eastman Chemical Company for monitoring the concentration of hydrogen chloride (HCl) in the flue gas from Boilers 18—24 at the company's Kingsport, Tennessee facility subject to 40 CFR part 60, subpart DDDD?

A: Yes. EPA conditionally approves the site-specific monitoring approach since it is acceptable for demonstrating continuous compliance with the HCl emission limit. The proposed approach is based upon the conservative assumption that all of the chlorine contained in the fuel and waste streams burned in the boilers is emitted as HCl. In addition, the proposed equations for converting HCl results into terms of the applicable standard are technically sound.

Abstract for [1900015]

Q: Does EPA determine that the Magellan Midstream Partner L.P. (Magellan) proposal to conduct in-service inspections on an ethanol storage tank subject to 40 CFR part 60, subpart Kb at the company's Charlotte, North Carolina storage terminal is acceptable?

A: Yes. The EPA responded to the Mecklenburg County Land Use and Environmental Services Agency (Agency) that conducting in-service inspections on Tank 14 at the Charlotte terminal will be acceptable provided that inspection procedures in 40 CFR 63.1063(d) are followed since facility does not have alternate storage capacity for ethanol. This determination is consistent with previous EPA Region 7 approvals of in-service inspections for similar storage tanks located at three other Magellan storage terminals located in Missouri.

Abstract for [1900016]

Q: Does EPA determine that an alternative nitrogen oxides (NOX) monitoring proposal for the sulfite recovery boiler subject to 40 CFR part 60, subpart D and located at the Rayonier Advanced Materials pulp mill in Fernandina Beach, Florida is acceptable?

A: Yes. Based on the information provided by the Florida Department of Environmental Protection, Division of Air Resource Management, EPA determines that since the NOx limit in subpart D does not apply to the combustion of red liquid, an alternative to a continuous emission monitoring system must be used when red liquor and natural gas are co-fired in the boiler. NOX emissions from the natural gas burners installed on the boiler are controlled with steam injection, and excess emission during periods when red liquor and natural gas are co-fired will be defined in terms of the steam pressure or steam flow to the burners.

Abstract for [1900017]

Q: Does EPA approve an alternative monitoring plan (AMP) in lieu of a continuous emission monitoring system (CEMS) for total reduced sulfur (TRS) monitoring for the D-line Brownstock Washer System at the WestRock pulp mill (WestRock) in Fernandina Beach, Florida subject to 40 CFR part 60, subpart BBa?

A: No. EPA determines that the proposed alternative AMP cannot be approved because it defines TRS excess emissions in terms of scrubber operating parameters (liquid flow and hypochlorite addition rates), which will provide a lower level of compliance than the CEMS. The AMP will not generate results in terms of the 5-ppm emission limit promulgated at § 60.283a(a)(l)(v). Because of this, it is possible that some periods of excess emissions detected with a CEMS would not be detected using the procedures outlined in the AMP.

Abstract for [1900018]

Q: Does EPA approve the proposed waiver of the requirement to include an oxygen monitor in the total reduced sulfur (TRS) scrubber continuous emission monitoring system (CEM) that will be installed downstream of the D-line Brownstock Washer System at the WestRock pulp mill in Fernandina Beach, Florida subject to 40 CFR part 60, subpart BBa?

A: EPA approves the alternative monitoring proposal. Since the applicable TRS for the D-line Brownstock Washer System is not corrected to ten percent oxygen, ongoing compliance with subpart BBa can be determined without monitoring the oxygen concentration at the outlet of the scrubber that controls emissions from the affected facility.

Abstract for [1900019]

Q: Does EPA approve the proposed waiver for dioxin/furan (D/F) testing required under 40 CFR part 60, subpart DDDD on Boilers 18 through 24 at the Eastman Chemical Company facility in Kingsport, Tennessee?

A: Yes. EPA conditionally approves the waiver request of the D/F testing for five of the seven boilers since testing demonstrates that the D/F concentration in the flue gas from two representative units is less than or equal to 50 percent of the applicable standard. Under this approval, the maximum duration between D/F testing for any individual boiler shall not exceed 72 months.

Abstract for [1900021]

Q: Does EPA approve the proposed alternative to pressure drop monitoring for a scrubber that controls emissions from a waste heat boiler (WHB), a Commercial and Industrial Solid Waste Incinerators (CISWI) unit, subject to 40 CFR part 60, subpart DDDD (Emissions Guidelines and Compliance Times for CISWI Units)? at the Solvay Specialty Polymers USA, LLC facility in Augusta, Georgia?

A: Yes. The EPA finds the alternative monitoring approach acceptable to demonstrate continuous compliance with the PM emission limit by sampling and analyzing the waste stream (i.e., ash/solids content of the mixed isomer stream) on a monthly basis for twelve months. In addition, it relies on a conservative assumption that all the ash in the waste is emitted as particulate matter. The site-specific alternative monitoring we are conditionally approving will apply after EPA issues the final CISWI federal plan or approves a revised Georgia CISWI state plan.

Abstract for [1900022]

Q: Does EPA approve Eastman Chemical Company's request to conduct hydrogen chloride (HCl) performance testing on only some of the seven identical boilers (No. 18—21) that burn coal, biosludge, and liquid waste at the company's Kingsport, Tennessee facility subject to 40 CFR part 60, subpart DDDD (Emissions Guidelines and Compliance Times for Commercial and Industrial Solid Waste Incineration Units)?

A: EPA conditionally approves the performance test waiver request. Based upon the lack of post-combustion add-on controls for HCl and the significant margin of compliance during the initial HCl performance testing conducted on the seven boilers, a waiver of testing for five of the seven boilers will be acceptable if test results for two representative units demonstrates that the HCl concentration in the flue from the boilers tested is less than or equal to 50 percent of the applicable limit in 40 CFR part 60, subpart DDDD.

Abstract for [1900023]

Q: What is the EPA interpretation for continuous monitoring system (CMS) downtime and emission reporting requirements under the Clean Air Act New Source Performance Standards (“NSPS”) General Provisions at 40 CFR part 60, subpart A?

R; The EPA responded to the Oklahoma Department of Environmental Quality (ODEQ) that it is withdrawing a regulatory interpretation dated June 26, 2017 (AD Control Number 1700037) in response to ODEQ's April 18, 2017 request to allow for further examination and discussion of the questions. Based upon new information received from industry, the June 2017 EPA response may lead to some uncertainty when applied across several industry sectors. The regulatory requirements at issue involve the reporting for CMS downtime and the calculation of a valid hour of emissions under NSPS subpart A.

Abstract for [A160003]

Q1: When planning a renovation/demolition project, is the collection and analysis of bulk samples using Polarized Light Microscopy the only way to comply with the requirements of a thorough inspection under 40 CFR 61.145(a) of subpart M (Asbestos NESHAP)?

A1: The asbestos NESHAP does not define “thorough inspection.” This was left to the owner/operator to determine when undertaking a renovation/demolition operation. Some possible means of determining a thorough inspection include, but is not limited to: (1) Use the ASTM-E2356-14 Standard Practice for Comprehensive Building Asbestos Surveys (ADI #A150001); (2) Assume building materials within the facility are asbestos-containing materials, and follow the regulation accordingly; and (3) Apply the definition(s) of friable, non-friable, Category I non-friable asbestos-containing material and/or Category II non-friable asbestos-containing material, sample and analyze building materials using Polarized Light Microscopy.

Q2: What type of documentation would be acceptable to the EPA for each building component impacted by the renovation/demolition operation in order to comply with 40 CFR 61.145(a)?

A2: Depending on the circumstances, there may be appropriate documents that show asbestos content or lack of asbestos content for each building material. The documentation should provide information on how the asbestos content was determined. For compliance purposes, Polarized Light Microscopy is the test method recognized in the regulatory definition of asbestos-containing materials. One example of documentation that would be acceptable is found in a school's Management Plan required under 40 CFR part 763.

Abstract for [FP00007]

Q: Does EPA approve site-specific operating parameters (SSOPs) under 40 CFR part 62 subpart HHH for the polishing system and wet gas scrubber on the hospital/medical/infectious waste incinerator at the Wyoming Medical Center (WMC) located in Casper, Wyoming?

A: Yes. Based on the particular design of WMC's polishing system and the process-specific and testing data provided, EPA approves SSOPs for the polishing system and the wet gas scrubber. The SSOPs for the polishing system are: Carbon adsorber unit maximum inlet temperature; cartridge filter unit minimum inlet temperature; laboratory analysis of carbon medial sampled at the 50 percent bed level within the adsorber unit every two years according to one or more published test methods (e.g. ASTM); and the carbon bed will be replaced every six to ten years, depending on the intermittent two-year test results. The SSOPs for the wet gas scrubber are those required in 40 CFR 60.57c and wet gas scrubber unit maximum outlet temperature.

Abstract for [M100091]

Q1: Has EPA waived Electronic Reporting Tool (ERT) requirements for certain Arkansas facilities, based on EPA' s 2014 delegation of NESHAP authority to Arkansas and the 2014 Memorandum of Understanding (MOU) between EPA Region 6 and the Arkansas Department of Environmental Quality (ADEQ) that implements that delegation?

A1: No. While the 2014 Delegation and the MOU contain a provision that major sources in Arkansas subject to delegated 40 CFR part 63 standards are only required to submit the information required by the General Provisions and the relevant 40 CFR part 63 subpart to ADEQ, this provision was not intended to constitute EPA approval to waive ERT requirements in 40 CFR part 63 that are applicable to Arkansas facilities. This determination is consistent with 40 CFR 63.91(g)(2), which identifies delegations that EPA must retain which cannot be delegated to a State, including 40 CFR 63.10(f), Approval of Major Alternatives to Recordkeeping and Reporting. In addition, 40 CFR part 63, subpart DDDDD specifies at 40 CFR 63.7570(b)(5) that the authority to approve a major change to recordkeeping or reporting is not delegable to state, local, or tribal agencies, and is specifically retained by EPA.

Q2: Does EPA approve a major change to reporting under subpart DDDDD for Deltic Timber Corporation facilities in Arkansas to allow those facilities to submit paper reports to the ADEQ in lieu of electronic reporting using the ERT?

A2: No. EPA believes that approval of such a major reporting change for performance testing information would directly conflict with the intent and objectives of the ERT requirements in subpart DDDDD and would be inconsistent with the important purposes behind the electronic reporting requirements. Electronic reports that cannot be uploaded via the ERT must be placed on a compact disc and sent to EPA's Office of Air Quality Planning and Standards, per 40 CFR 63.7550(h)(l)(i).

Abstract for [M150022]

Q: Does EPA determine that two boilers at the Packaging Corporation of America (PCA) mill in Valdosta, Georgia that fire wet woody biomass meet the Boiler definition in 40 CFR part 63, subpart DDDDD for classification as hybrid suspension grate units?

A: Yes. Based on your description of the two boilers, EPA determines that these boilers meet the definition of a hybrid suspension grate unit in subpart DDDDD and can be classified accordingly.

Abstract for [M180003]

Q: Does EPA approve BASF's alternative monitoring request pursuant to 40 CFR 63.1209(g)(l) and 63.8(f) to change automatic waste feed cut-off requirements for the operating parameter limit (OPL) on flue gas flow rate for three hazardous waste combustion incinerators A, B and C at its Hannibal, Missouri facility?

A: Yes. EPA approves the alternative monitoring request with the following conditions: BASF shall notify EPA at least 30 days prior to any system or equipment changes associated with the waste tank fume (WTF) flow and motive air flow; BASF shall continuously monitor WTF flow and motive air flow to incinerators A, B and C; compliance with the OPL for flue gas flow shall be determine; BASF shall automatically cut-off hazardous waste feed to hazardous waste incinerators A, B and C if the rolling average combustion air/fume air flow exceeds the OPL for flue gas flow; when establishing the operating parameter limit of maximum flue gas flow rate required for destruction and removal efficiency (40 CFR 63.12090)(2)), particulate matter (40 CFR 63.1209(m)(l)(i)(C), dioxins/furans (40 CFR 63.1209(k)(3)) and hydrogen chloride and chlorine gas (40 CFR 63.1209(o)(2)), all gaseous flow inputs shall be continuously monitored during compliance testing and shall be used to determine the operating parameter limit; and, the alternative monitoring approval shall be included as an appendix to all hazardous waste incinerator units A, B and C comprehensive performance test plan submittals.

Abstract for [M180006]

Q: Does EPA approve an extension to the number of additional runtime hours for an emergency diesel generator located at Entergy Operations, Inc.'s Arkansas Nuclear One (ANO) facility in Russellville, Arkansas, which is subject to the NESHAP for Reciprocating Internal Combustion Engines, subpart ZZZZ (RICE NESHAP)?

A: No. EPA does not approve the additional runtime hours since the emergency generator ran more than 100 hours due to the facility's error in programming the controller, and not because of the time necessary for maintenance or testing.

Abstract for [M180007]

Q: Does EPA approve The Dow Chemical Company's (Dow's) proposal to monitor a non-regenerative carbon adsorption system using the weight of the carbon bed and outlet temperature of each bed in the series, for the Myers 10 Mixer Process Unit facility in Midland, Michigan, subject to the NESHAP for miscellaneous coating manufacturing, subpart HHHHH?

A: Yes. Based on the information provided, EPA approves Dow's proposed operating parameters and averaging periods in lieu of the parameters under 40 CFR 63.990(c)(3), which are not appropriate for a none regenerative carbon system and use of an organic monitoring device capable of providing a continuous record is economically impractical.

Abstract for [M180008]

Q: Does EPA approve Veolia E.S. Technical Solutions, L.L.C.'s (Veolia's) request to waive the requirement to establish and comply with a maximum ash feed rate operating parameter limit (OPL) for three hazardous waste incinerators located at its Sauget, Illinois facility and subject to NESHAP for Hazardous Waste Combustors (HWC), 40 CFR part 63, subpart EEE?

A: No. EPA does not approve Veolia's OPL waiver request, because Veolia has not demonstrated that neither the maximum ash feed rate OPL nor an alternative OPL is needed to ensure compliance with the particulate matter emission standard in the subpart EEE. To evaluate this request, Veolia must submit supplemental information within 30 days of the EPA response letter's date to consider its application during review of the comprehensive performance test plan.

Abstract for [M180009]

Q: Does EPA approve an alternate monitoring plan (AMP) for detecting leaks in ancillary equipment which is in ethylene glycol (EG) service, using weekly audio/visual/olfactory (AVO) inspections at six separate DCP Midstream LP (DCP) gas processing plants located in Texas?

A: Yes. EPA approves DCP's proposed AMP to conduct weekly AVO inspections of the ancillary equipment in EG service at six gas processing plants. Visual evidence of EG liquid on, or dripping from, ancillary equipment in EG service would indicate an equipment leak, and repair must be conducted as required by 40 CFR part 61, subpart V.

Abstract for [M180010]

Q: Does EPA determine that the glycol dehydration reboiler at the Enable Gas Gathering, LLC Strong City Compressor Station, located in Oklahoma, is a process heater subject to 40 CFR part 63, subpart DDDDD?

A: Yes. EPA determines that the glycol dehydration reboiler is a process heater subject to subpart DDDDD since the gaseous fuel fired to the reboiler is not regulated under another MACT subpart, and the exhaust gas from the combustion chamber is uncontrolled (i.e. emissions are released directly to the atmosphere). Although the glycol dehydration reboiler is an affected under NESHAP subpart HH (“Oil and Natural Gas Production Facilities NESHAP”), the process vent standards under this rule only apply to a glycol dehydration unit still vent and flash tank, if present, but do not address the combustion chamber emissions of a reboiler unit. This determination is consistent with 40 CFR 63.7491(h), which indicates that units used as control devices for gas streams regulated under other MACT subparts are not subject to MACT subpart DDDDD. Under MACT subpart HH, a reboiler unit is defined separately from a glycol dehydration unit and is not considered a control device under subpart HH. At the subject facility, an enclosed flare is the control device for the glycol dehydration unit process vents subject to subpart HH. Therefore, the glycol reboiler is considered a process heater subject to the MACT DDDDD, because it is not a control device being used to comply with another MACT subpart and does not meet the exemption provided at 40 CFR 63.7491(h).

Abstract for [M180012]

Q: Does EPA approve the request from ExxonMobil Fuels & Lubricants Company (ExxonMobil) for its Joliet Refinery in Channahon, Illinois, subject to 40 CFR part 63, subpart CC, to temporarily conduct alternate monitoring for pilot flame presence at its flares during periods of time when atmospheric conditions interfere with the operation of the infrared sensors, until ExxonMobil can install thermocouples that will not have any interference issue?

A: Yes. Because safety reasons preclude ExxonMobil from installing thermocouples until a flare outage, EPA approves the request to temporarily use infrared sensors, combined with alternative monitoring techniques during periods of time when atmospheric conditions interfere with the operation of the infrared sensors, until ExxonMobil installs thermocouples to monitor pilot flame presence next flare outage or July 1, 2019 (one year after the compliance date), whichever is sooner.

Abstract for [M180013]

Q: Does EPA determine that the five newly installed engines at the ONEOK Field Services Company, LLC Antioch Booster Station in Garvin County, Oklahoma are subject to the area source requirements under 40 CFR part 63, subpart ZZZZ?

A: Yes. The EPA responded to the Oklahoma Department of Environmental Quality (DEQ) that it agrees with its determination that the five new engines are subject to the area source requirements for new stationary reciprocating internal combustion engines under 40 CFR 63.6590(a)(2)(iii). The primary hazardous air pollutant (HAP) from the new engines is formaldehyde. The new engines are subject to federally enforceable limits to ensure that total facility formaldehyde emissions will be below 10 tons per year. Since all the existing engines that caused the facility to be previously classified as a major source of HAP were retired, and the new engines are subject to federally enforceable emission limits below major source thresholds, the facility is now classified as an area source of HAPs.

Abstract for [M190001]

Q: Does EPA determine that the request for a waiver of the requirement to monitor the catalyst inlet temperature during low operating capacity periods for 14 non-emergency generators subject to 40 CFR part 63, subpart ZZZZ located at Robins Air Force Base (Robins) in Houston County, Georgia is acceptable?

A: No. The EPA responded to the Air Protection Branch of the Georgia Environmental Protection Division that while EPA does not have the authority to waive the catalyst inlet temperature monitoring requirement in subpart ZZZZ, Robins can petition EPA for approval of an alternative to the catalyst inlet temperature range specified in the rule (i.e., 450-1350 °F).

Abstract for [M190002]

Q: Does EPA approve the alternative monitoring request to use an acoustic monitor for verifying the presence of a pilot flame for a hydrogen flare at the SI Group facility in Orangeburg, South Carolina subject to 40 CFR part 63, subpart FFFF (MON rule)?

A: Yes. Based upon a review of information submitted by the SI Group, EPA determines that the proposed major alternative monitoring approach with use of the acoustic pilot monitor satisfies the requirement in 40 CFR 63.987(c) for a continuous pilot flame on the hydrogen flare.

Abstract for [M190003]

Q: Does EPA approve the proposed alternative monitoring parameter for a scrubber that controls emissions from the No. 1 Lime Kiln at the International Paper pulp mill in Pensacola, Florida subject to 40 CFR part 63, subpart MM?

A: Yes. Based on the information provided, EPA confirms that the 2004 approved monitoring parameter (lime production rate) as an alternative to the scrubber monitoring parameter specified in 40 CFR part 63, subpart MM (differential pressure) is an acceptable alternative under 40 CFR 63.987(c) of the revised subpart MM, effective on October 11, 2019.

Abstract for [Z180003]

Q: Does EPA approve Dominion Energy Nuclear Connecticut, Inc. (Dominion) to use existing monitors that measure differential pressure across the air filter media and continuously display the condition during engine operation in lieu of the annual air filter inspections required by 40 CFR part 63, subpart ZZZZ, at the Millstone Nuclear Power Station in Waterford, Connecticut?

A: Yes. EPA approves the use of the pressure drop monitoring as an alternative to the annual filter inspections because the differential pressure readings shall be taken at least once each time the engine is operated (approximately every 4 hours for extended runs) and shall be maintained within the approved specifications to ensure optimal engine performance and reliability which minimize emissions. Further, if readings are out of specifications, Dominion shall take corrective actions.

Abstract for [Z180004]

Q1: Does EPA approve “alternative monitoring parameters” in lieu of the required parametric monitoring for group 2 asphalt storage tanks, which are subject to 40 CFR part 63, subpart LLLLL, during the annual regenerative thermal oxidizer (RTO) shutdown for maintenance activities, which lasts for approximately 2 weeks, at the CertainTeed Saint-Gobain North America (CertainTeed) facility in Shakopee, Minnesota?

A1: Yes. EPA approves an alternative monitoring plan because CertainTeed uses an RTO to comply with subpart LLLLL during normal operation and will only use the mist eliminators and conduct visible emission (VE) checks once per shift or twice daily during daylight hours per EPA Method 22 for compliance with the zero-opacity standard during the approximately 2-week long annual RTO maintenance outage. EPA agrees that it is overly burdensome to require the installation of the required parametric monitoring equipment for this short duration of time.

Q2: Does EPA approve “alternative monitoring parameters” for group 2 asphalt storage tanks which are subject to subpart LLLLL anytime there is a production curtailment and CertainTeed shuts down the RTO?

A2: No. CertainTeed did not provide information about how often this production curtailment might occur, so EPA cannot determine whether or not it is reasonable to allow alternative monitoring during these periods of time.

Dated: January 15, 2020.
John Dombrowski,
Deputy Director, Office of Compliance, Office of Enforcement and Compliance Assurance.

[FR Doc. 2020-03754 Filed 2-24-20; 8:45 am]

BILLING CODE 6560-50-P